DEPARTMENT OF ENERGY

Federal Energy Regulatory Commission

[Docket No. RP00-237-000]

Columbia Gas Transmission Corporation; Notice of Proposed Changes in FERC Gas Tariff

April 4, 2000.

Take notice that on March 31, 2000, Columbia Gas Transmission Corporation (Columbia) tendered for filing as part of its FERC Gas Tariff, Second Revised Volume No. 1, the following revised tariff sheets with a proposed effective date of May 1, 2000:

Fifth Revised Sheet No. 280

Seventh Revised Sheet No. 281

Seventh Revised Sheet No. 282

Fourth Revised Sheet No. 283

Columbia states that it is making this filing to revise its tariff to comply with the Commission's changes in its Order No. 637 to the right-of-first-refusal (ROFR) afforded certain firm shippers in 18 CFR Section 284.221(d)(2)(ii). In Order No. 637, the Commission revised the ROFR to limit its applicability. Columbia is revising General Terms and Conditions (GTC), Section 4, which contains the procedures for the awarding of existing firm capacity and the exercise of the ROFR on Columbia, to reflect these changes. Columbia is also revising Section 4 to be consistent with certain comparable time frames and provisions in Section 14.5(b).

Columbia states that copies of its filing have been mailed to all firm customers, interruptible customers, and affected state commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-8763 Filed 4-7-00; 8:45 am]

BILLING CODE 6717-01-M